DEPARTMENT OF TRANSPORTATION

Federal Aviation Administration

14 CFR Part 39

[Docket No. FAA-2021-0201; Project Identifier MCAI-2020-01346-T; Amendment 39-21790; AD 2021-22-17]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for all Airbus Canada Limited Partnership Model BD-500-1A10 and BD-500-1A11 airplanes. This AD was prompted by a report of cracking in certain components on left and right sides of the aft wing-to-body fairing (WTBF) structure near the tie-rod attachment at a certain fuselage station; this cracking likely resulted from excessive tie-rod preload. This AD requires inspecting the aft WTBF structure for any cracking or damage, adjusting the load on the two tie-rods at a certain fuselage station, and repair if necessary, as specified in two Transport Canada Civil Aviation (TCCA) ADs, which are incorporated by reference. The FAA is issuing this AD to address the unsafe condition on these products.

DATES: This AD is effective December 29, 2021.

The Director of the Federal Register approved the incorporation by reference of certain publications listed in this AD as of December 29, 2021.

ADDRESSES: For TCCA material incorporated by reference (IBR) in this AD, contact the TCCA, Transport Canada National Aircraft Certification, 159 Cleopatra Drive, Nepean, Ontario K1A 0N5, Canada; telephone 888-663-3639; email AD-CN@tc.gc.ca; internet https://tc.canada.ca/en/aviation. You may view this material at the FAA, Airworthiness Products Section, Operational Safety Branch, 2200 South 216th St., Des Moines, WA. For information on the availability of this material at the FAA, call 206-231-3195. It is also available in the AD docket at https://www.regulations.gov by searching for and locating Docket No. FAA-2021-0201.

Examining the AD Docket

You may examine the AD docket at https://www.regulations.gov by searching for and locating Docket No. FAA-2021-0201; or in person at Docket Operations between 9 a.m. and 5 p.m., Monday through Friday, except Federal holidays. The AD docket contains this final rule, the two TCCA ADs, any comments received, and other information. The address for Docket Operations is U.S. Department of Transportation, Docket Operations, M-30, West Building Ground Floor, Room W12-140, 1200 New Jersey Avenue SE, Washington, DC 20590.

FOR FURTHER INFORMATION CONTACT: Antariksh Shetty, Aerospace Engineer, Airframe and Propulsion Section, FAA, New York ACO Branch, 1600 Stewart Avenue, Suite 410, Westbury, NY 11590; telephone 516-228-7300; fax 516-794-5531; email 9-avs-nyaco-cos@faa.gov.

SUPPLEMENTARY INFORMATION:

Background

The TCCA, which is the aviation authority for Canada, has issued TCCA AD CF-2020-32, dated September 25, 2020 (TCCA AD CF-2020-32), to correct an unsafe condition for all Airbus Canada Limited Partnership Model BD-500-1A10 and BD-500-1A11 airplanes.

The FAA issued a notice of proposed rulemaking (NPRM) to amend 14 CFR part 39 by adding an AD that would apply to all Airbus Canada Limited Partnership Model BD-500-1A10 and BD-500-1A11 airplanes. The NPRM published in the Federal Register on April 1, 2021 (86 FR 17087). The NPRM was prompted by a report of cracking in certain components on left and right sides of the aft WTBF structure near the tie-rod attachment at a certain fuselage station; this cracking likely resulted from excessive tie-rod preload. The NPRM proposed to require inspecting the aft WTBF structure for any cracking or damage, adjusting the load on the two tie-rods at a certain fuselage station, and repair if necessary, as specified in TCCA AD CF-2020-32.

Since the NPRM was issued, the TCCA has issued TCCA AD CF-2020-32R1, dated April 23, 2021 (TCCA AD CF-2020-32R1), which provides extended compliance times for airplanes on which a certain WTBF reinforcement modification has been accomplished. The applicability of TCCA AD CF-2020-32R1 is the same as in TCCA AD CF-2020-32; therefore, there is no change to the applicability of this AD. In addition, TCCA AD CF-2020-32R1 does not add any new requirements; the change to the compliance time is relieving. Operators can address the unsafe condition identified in this AD by accomplishing the actions specified in either TCCA AD CF-2020-32 or TCCA AD CF-2020-32R1.

The FAA is issuing this AD to address such cracking, which could lead to loss of aft WTBF integrity and result in damage due to parts departing the airplane, loss of the radio altimeter, and effects on airplane stability and performance. See TCCA ADs CF-2020-32 and CF-2020-32R1 for additional background information.

Discussion of Final Airworthiness Directive

Comments

The FAA received comments from two commenters, including Airbus Canada Limited Partnership (Airbus Canada) and Delta Air Lines (DAL). Additionally, on July 20, 2021, the FAA, Airbus Canada, and DAL had a meeting to clarify some of DAL's comments. A record of that meeting can be found in the docket for this final rule. The following presents the comments received on the NPRM and the FAA's response to each comment.

Request for Clarification of “approved” as Used in “later-approved revision”

Airbus Canada requested clarification on the use of “approved” in “later-approved revision” stated in paragraph (h)(5) of the proposed AD. Airbus Canada pointed out that the referenced document is not an approved document and is not listed on the TCCA or FAA type certificate data sheet as an approved publication. Airbus Canada stated that it found that the phrase seemed to imply authority involvement in approving that document, but TCCA's involvement, per Canadian regulations, is to find whether implementation of that document is appropriate and sufficient to rectify an unsafe condition.

DAL stated that including “approved” in the phrase “or later approved revisions” changes the definition of “applicable [aircraft maintenance publication] AMP [data module] DM” as provided in the TCCA AD CF-2020-32. DAL stated that the aircraft maintenance publication is an FAA-accepted document, not an FAA-approved document. DAL requested that if the FAA retains “or later approved revision,” that the FAA then provide its approval of Issue 006 of the document in the final rue. DAL also stated that if Airbus Canada revises the document, operators are not generally aware of corresponding changes to data modules, and operators would not be able to use the later revision without FAA approval and would not be able to do the inspection.

The FAA agrees to clarify. The FAA does not have jurisdiction over TCCA regulatory requirements. However, U.S. operators must follow FAA requirements and regulations for compliance with FAA ADs. For the purposes of this AD, Airbus Canada Limited Partnership AMP DM BD500-A-J53-82-55-04AAA-720A-A (Aft fairing strut, Wing To Body Fairing (WTBF)—Install procedure) Issue 006, dated June 26, 2020, is the approved version specified in TCCA AD CF-2020-32 and TCCA AD CF-2020-32R1. Operators must have approval to use later revisions of referenced documents. If the phrase “or later revision” is not modified, operators could comply with a document containing changes that have not been reviewed and approved by TCCA, the FAA, or the design approval organization (DAO) for Airbus Canada to mitigate the unsafe condition. The FAA has revised paragraph (h)(6) of this AD to specify that later revisions must be approved by the Manager, New York ACO Branch, FAA; or TCCA; or Airbus Canada's TCCA Design Approval Organization (DAO). If approved by the DAO, the approval must include the DAO-authorized signature.

Request To Incorporate Revised TCCA AD Into Final Rule

DAL stated that TCCA has released a Revision 01 to the TCCA AD CF-2020-32, which specifies revised compliance times and references revised service information that contains information for airplanes delivered with a new configuration. DAL requested that the proposed AD be revised to incorporate the later revision instead of the original TCCA AD CF-2020-32.

The FAA agrees to reference the later revision as an optional method of compliance. TCCA has issued TCCA AD CF-2020-32R1, which extends the repetitive inspection intervals for airplanes on which the modification to strengthen the support structure of the aft WTBF has been accomplished. The FAA has revised paragraphs (g), and (h)(1) through (7) of this AD to reference TCCA AD CF-2020-32R1 and has added and re-designated lower level paragraphs in paragraph (h) of this AD.

Request To Revise Cost Estimate

DAL requested that the FAA revise the cost estimate to increase the number of airplanes estimated to be affected by the AD requirements. DAL pointed out that the applicability statement in paragraph (c) of the proposed AD identified all Model BD-500-1A10 and BD-500-1A11 airplanes as being affected by the proposed requirements. DAL stated that it has 48 of these airplanes and is aware of another operator taking delivery of these airplanes, which is more than the 11 airplanes estimated in the Cost of Compliance section of the NPRM.

The FAA agrees to revise the Cost of Compliance section to increase the number of airplanes estimated to be affected by the requirements of this AD. As of September 15, 2021, the database that was used to provide the estimate for the NPRM shows 54 U.S.-registered airplanes that could be affected by this AD, which supports DAL's request. The FAA has revised the cost estimate accordingly.

Request To Revise AD To Accommodate Operator Produced Part With Improved Design

DAL requested an exception be added to paragraph (h) of the AD to allow DAL to use Airbus Canada service information for inspection instructions. DAL stated that, given that many of their airplanes have had longeron repairs or replacements after delivery with components designed and made under an owner-operator produced parts (OOPP) process, it would not be able to comply with the inspections due to a statement in the service information that excludes use of the service information on airplanes that do not have systems and parts that were installed at delivery or as changed by a service bulletin. DAL stated that until Airbus Canada develops a WTBF configuration that does not crack, it concurs with the inspection requirement and wants to be able to use the inspection instructions to comply with the proposed AD.

The FAA disagrees. If an operator or owner is unable to comply with requirements due to an airplane configuration that does not conform to the configurations addressed by service information, operators or owners must request an alternative method of compliance (AMOC) as specified in paragraph (i)(1) of this AD. AMOC requests should include sufficient data to show that the proposed alternate solution is complete and addresses the unsafe condition. The FAA also does not consider it appropriate to include various provisions or exceptions in an AD applicable only to a single operator's unique circumstances. The FAA has not changed this AD in this regard.

Request To Provide Alternative Repair Instructions for Non-Standard Configurations

DAL stated that it has installed longerons that it designed and manufactured under its OOPP program, and is concerned about not being able to acquire repair instructions as instructed in the event that those certain longerons are found to be cracked. DAL has stated that Airbus Canada would not be able to provide support for OOPP. DAL pointed out that paragraph (i)(2) of the proposed AD states that for any requirement to obtain instructions from a manufacturer, that it should use a method approved by the Manager, New York ACO Branch, FAA; or TCCA; or Airbus Canada's TCCA Design Approval Organization (DAO). DAL proposed that the proposed AD be revised to add an exception that states that replacement of damaged structural elements would be acceptable in lieu of a repair.

The FAA disagrees with the request. Paragraph (i)(2) provides for receiving instructions from the Manager, New York ACO Branch, FAA, or TCCA in lieu of instructions from Airbus Canada's DAO if the DAO cannot provide repair instructions. Also, paragraph (i)(1) of this AD provides procedures to request an AMOC to the methods required to be used in this AD. AMOCs are issued after an AD has been issued and sufficient data has been provided to show that the proposed alternate solution is complete and addresses the unsafe condition. The FAA also does not consider it appropriate to include various provisions or exceptions in an AD applicable only to a single operator's unique circumstances. The FAA has not changed this AD in this regard.

Request To Revise Inspection Report Requirement

DAL noted that paragraph (h)(6) of the proposed AD specified reporting requirements. DAL perceived reporting requirements as a tool to be used mostly to support efforts to understand statistical probabilities of failure. DAL then considered that reporting findings in situations where the airplane configuration deviates from the configuration that the manufacturer is analyzing is possibly disruptive to prediction models, and suggested revising the AD to exempt operators from reporting in cases where the affected parts have been previously repaired or replaced, particularly if it is a non-conforming configuration.

The FAA does not agree to add an exemption for airplanes on which an affected part has been repaired or replaced, even if it is not in a configuration that conforms to a manufacturer's configuration. Reasons to have a reporting requirement can extend beyond statistical analysis for fatigue or aging of a part, and information from non-conforming configurations can be beneficial in determining a corrective action. The FAA has not changed this AD regarding this issue.

DAL also requested that the compliance time for reporting inspection results be extended from 30 days to 180 days after the inspection. DAL considered the 30 days to be too onerous considering how long heavy maintenance visits take and that an inspection could be conducted at the start of the visit, but the paper records might not be received until 60 days after the inspection. DAL noted that an extended time window will allow findings to be batched together for a group report and preclude undue compliance issues related to late reporting.

The FAA disagrees with the request. TCCA specified 30 days and that aligns with the FAA's standardized compliance time for inspection reports. The FAA and Airbus Canada concur with TCCA's decision. The manufacturer uses the reports to analyze the findings and to develop new service information that incorporates those findings. However, once this AD is published, any person may request approval of an AMOC under the provisions of paragraph (i)(1) of this AD. The FAA has not changed this AD regarding this issue.

Request To Remove Exception for No Flights With Cracking

DAL requested that the proposed exception in paragraph (h)(2) of the proposed AD be removed. DAL explained that both TCCA ADs CF-2020-32 and CF-2020-32R1 state to repair cracks or damage by using certain service information, and that the steps state that the damage is to be reported to and dispositioned by Airbus Canada, but no mention of any fly-on allowance for documented crack or damage findings.

The FAA disagrees with the request. In both TCCA ADs CF-2020-32 and CF-2020-32R1, there is no phrase that specifically states that the repair is to be done before further flight. Therefore, operators might inadvertently determine that the compliance times specified in both TCCA ADs CF-2020-32 and CF-2020-32R1 are for both accomplishing the inspections and repairs. The FAA found it necessary to clarify that it does not intend to allow flight with known cracking. The FAA has not changed this AD regarding this issue.

Request To Revise Description of Root Cause

DAL requested that the Discussion section of the NPRM be updated to reflect new information on the number of aft WTBF configurations. DAL pointed out that the Discussion section stated that “the cracking reportedly begins earlier on airplanes with the latest of the two aft WTBF configurations.” DAL acknowledged that the statement may have been true at the time of drafting, but added that the FAA should be informed that there is a third WTBF configuration which includes additional structure.

The FAA concurs with the request, however the content of the Discussion section of the NPRM is not repeated in this AD.

Conclusion

The FAA reviewed the relevant data, considered the comments received, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

TCCA ADs CF-2020-32 and CF-2020-32R1 specify procedures for doing repetitive detailed visual inspections of the aft WTBF structure for any cracking or damage (including, but not limited to, cracking), adjusting the load on the two tie-rods at fuselage station (FS) 973, reporting inspection results, and repairing any cracked or damaged WTBF structure. These documents are unique because TCCA AD CF-2020-32R1 includes revised compliance times for certain airplanes. This material is reasonably available because the interested parties have access to it through their normal course of business or by the means identified in the ADDRESSES section.

Interim Action

The FAA considers that this AD is an interim action. If final action is later identified, the FAA might consider further rulemaking then.

Costs of Compliance

The FAA estimates that this AD affects 54 airplanes of U.S. registry. The FAA estimates the following costs to comply with this AD:

Estimated Costs for Required Actions *
Labor cost | Parts cost | Cost per product | Cost on U.S. operators
9 work-hours × $85 per hour = $765 | $0 | $765 | $41,310
* Table does not include estimated costs for reporting.

The FAA estimates that it would take about 1 work-hour per product to comply with the reporting requirement in this AD. The average labor rate is $85 per hour. Based on these figures, the FAA estimates the cost of reporting on U.S. operators to be $4,590, or $85 per product.

The FAA has received no definitive data on which to base the cost estimates for the on-condition repairs specified in this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-17 Airbus Canada Limited Partnership (Type Certificate Previously Held by C Series Aircraft Limited Partnership (CSALP); Bombardier, Inc.): Amendment 39-21790; Docket No. FAA-2021-0201; Project Identifier MCAI-2020-01346-T.

(a) Effective Date

This airworthiness directive (AD) is effective December 29, 2021.

(b) Affected ADs

None.

(c) Applicability

This AD applies to all Airbus Canada Limited Partnership (type certificate previously held by C Series Aircraft Limited Partnership (CSALP); Bombardier, Inc.) Model BD-500-1A10 and BD-500-1A11 airplanes, certificated in any category.

(d) Subject

Air Transport Association (ATA) of America Code 53, Fuselage.

(e) Reason

This AD was prompted by a report of cracking in the longeron, frame, and tie-rod on left and right sides of the aft wing-to-body fairing (WTBF) structure near the tie-rod attachment at fuselage station (FS) 973; this cracking likely resulted from excessive tie-rod preload. The FAA is issuing this AD to address such cracking, which could lead to loss of aft WTBF integrity and result in damage due to parts departing the airplane, loss of the radio altimeter, and effects on airplane stability and performance.

(f) Compliance

Comply with this AD within the compliance times specified, unless already done.

(g) Requirements

Except as specified in paragraph (h) of this AD: Comply with all required actions and compliance times specified in, and in accordance with, Transport Canada Civil Aviation (TCCA) AD CF-2020-32, dated September 25, 2020 (TCCA AD CF-2020-32); or TCCA AD CF-2020-32R1, dated April 23, 2021 (TCCA AD CF-2020-32R1).

(h) Exceptions to TCCA AD CF-2020-32 and TCCA AD CF-2020-32R1

(1) Where TCCA AD CF-2020-32 and TCCA AD CF-2020-32R1 refer to its effective date, this AD requires using the effective date of this AD.

(2) Where TCCA AD CF-2020-32R1 refers to the effective date of TCCA AD CF-2020-32 (October 9, 2020), this AD requires using the effective date of this AD.

(3) Where paragraphs B. and E. of TCCA AD CF-2020-32 and Part II and V of TCCA AD CF-2020-32R1 specify to repair “any cracks or damage” at certain compliance times or intervals, this AD requires repairing any cracks or damage before further flight.

(4) Where TCCA AD CF-2020-32 and TCCA AD CF-2020-32R1 refer to hours air time, this AD requires using flight hours.

(5) Where table 1 of TCCA AD CF-2020-32 specifies a compliance time “for new aeroplanes with an aeroplane date of manufacture, as identified on the identification plate of the aeroplane, dated on or after the effective date of this AD” and table 1 of TCCA AD CF-2020-32R1 specifies a compliance time “for new aeroplanes with an aeroplane date of manufacture, as identified on the identification plate of the aeroplane, dated on or after the effective date of AD CF-2020-32 (9 October 2020),” for this AD use “for airplanes with a date of manufacture, as identified on the identification plate of the airplane, dated on or after the effective date of this AD.”

(6) Where TCCA AD CF-2020-32 and TCCA AD CF-2020-32R1 define the “applicable [aircraft maintenance publication] AMP [data module] DM,” replace the text “Airbus Canada Limited Partnership AMP DM BD500-A-J53-82-55-04AAA-720A-A (Aft fairing strut, Wing To Body Fairing (WTBF)—Install procedure) Issue 006, dated 26 June 2020, or later revisions,” with the “Airbus Canada Limited Partnership AMP DM BD500-A-J53-82-55-04AAA-720A-A (Aft fairing strut, Wing To Body Fairing (WTBF)—Install procedure) Issue 006, dated 26 June 2020; or later revisions approved by the Manager, New York ACO Branch, FAA, or TCCA, or Airbus Canada's TCCA Design Approval Organization (DAO). If approved by the DAO, the approval must include the DAO-authorized signature.”

(7) Paragraph D. of TCCA AD CF-2020-32 and Part IV of TCCA AD CF-2020-32R1 specify to report inspection results to Airbus Canada Limited Partnership within a certain compliance time. For this AD, report inspection results at the applicable time specified in paragraph (h)(7)(i) or (ii) of this AD.

(i) If the inspection was done on or after the effective date of this AD: Submit the report within 30 days after the inspection.

(ii) If the inspection was done before the effective date of this AD: Submit the report within 30 days after the effective date of this AD.

(i) Additional AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300; tax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or TCCA; or Airbus Canada's TCCA Design Approval Organization (DAO). If approved by the DAO, the approval must include the DAO-authorized signature.

(3) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory as required by this AD. Send comments regarding this burden estimate or any other aspect of this collection of information, including suggestions for reducing this burden to Information Collection Clearance Officer, Federal Aviation Administration, 10101 Hillwood Parkway, Fort Worth, TX 76177-1524.

(j) Related Information

For more information about this AD, contact Antariksh Shetty, Aerospace Engineer, Airframe and Propulsion Section, FAA, New York ACO Branch, 1600 Stewart Avenue, Suite 410, Westbury, NY 11590; telephone 516-228-7300; fax 516-794-5531; email 9-avs-nyaco-cos@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) Transport Canada Civil Aviation (TCCA) AD CF-2020-32, dated September 25, 2020 (TCCA AD CF-2020-32).

(ii) Transport Canada Civil Aviation (TCCA) AD CF-2020-32R1, dated April 23, 2021 (TCCA AD CF-2020-32R1).

(3) For TCCA AD CF-2020-32 and TCCA AD CF-2020-32R1, contact Transport Canada National Aircraft Certification, 159 Cleopatra Drive, Nepean, Ontario K1A 0N5, Canada; telephone 888-663-3639; email AD-CN@tc.gc.ca; internet https://tc.canada.ca/en/aviation.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on October 19, 2021.
Ross Landes,
Deputy Director for Regulatory Operations, Compliance & Airworthiness Division, Aircraft Certification Service.

[FR Doc. 2021-25532 Filed 11-23-21; 8:45 am]

BILLING CODE 4910-13-P